ENVIRONMENTAL PROTECTION AGENCY

[ER-FRL-9043-1]

Environmental Impact Statements; Notice of Availability

Responsible Agency: Office of Federal Activities, General Information 202-564-5632 or https://www.epa.gov/nepa/

Weekly receipt of Environmental Impact Statements

Filed 12/17/2018 Through 12/20/2018

Pursuant to 40 CFR 1506.9.

Notice

Section 309(a) of the Clean Air Act requires that EPA make public its comments on EISs issued by other Federal agencies. EPA's comment letters on EISs are available at: https://cdxnodengn.epa.gov/cdx-enepa-public/action/eis/search

EIS No. 20180320, Final, BLM, WY, Lost Creek Uranium In-Situ Recover Project Modifications, Review Period Ends: 01/28/2019, Contact: Annette Treat 307-328-4314

EIS No. 20180321, Final, DOE, CA, Remediation of Area IV and the Northern Buffer Zone of the Santa Susana Field Laboratory, Review Period Ends: 01/28/2019, Contact: Stephanie Jennings 805-842-3864

EIS No. 20180322, Draft, APHIS, PRO, Rangeland Grasshopper and Mormon Cricket Suppression Program, Comment Period Ends: 02/11/2019, Contact: Jim Warren 202-316-3216

EIS No. 20180323, Draft Supplement, DOE, KY, Disposition of Depleted Uranium Oxide Conversion Product Generated from DOE's Inventory of Depleted Uranium Hexafluoride, Comment Period Ends: 02/11/2019, Contact: Jaffet Ferrer-Torres 202-586-0730

EIS No. 20180324, Draft, BLM, AK, Coastal Plain Oil and Gas Leasing Program, Comment Period Ends: 02/11/2019, Contact: Nicole Hayes 907-271-4354

Amended Notices

EIS No. 20180272, Draft, USN, NV, Fallon Range Training Complex Modernization, Comment Period Ends: 02/14/2019, Contact: Sara Goodwin 619-532-4463 Revision to FR Notice Published 11/16/2018; Extending the Comment Period from 01/15/2019 to 02/14/2019.

Dated: December 21, 2018.
Robert Tomiak,
Director, Office of Federal Activities.

[FR Doc. 2018-28208 Filed 12-27-18; 8:45 am]

BILLING CODE 6560-50-P